DEPARTMENT OF HOMELAND SECURITY

Transportation Security Administration

[Docket No. TSA-2008-0021]

Public Meetings on Large Aircraft Security Program, Other Aircraft Operator Security Program, and Airport Operator Security Program

AGENCY: Transportation Security Administration, DHS.

ACTION: Notice of public meetings and requests for comments.

SUMMARY: This notice provides the time and location of public meetings that will be held by the Transportation Security Administration (TSA) regarding the Notice of Proposed Rulemaking entitled “Large Aircraft Security Program, Other Aircraft Operator Security Program, and Airport Operator Security Program” (LASP NPRM), which was published in the Federal Register on October 30, 2008 (73 FR 64790).

DATES: The public meetings will be on January 6, 2009, in White Plains, NY; January 8, 2009, in Atlanta, GA; January 16, 2009, in Chicago, IL; January 23, 2009 in Burbank, CA; and January 28, 2009 in Houston, TX. The meetings will begin at 9 a.m., and registration will start at 8 a.m. All interested persons may provide written comments, which must be received in the public docket by February 27, 2009.

ADDRESSES: The public meetings will be held at the following locations:

(1) White Plains, NY: Westchester County Airport (HPN), Building 1 Airport Road, White Plains, NY 10604;

(2) Atlanta, GA: Renaissance Concourse Hotel Atlanta Airport, One Hartsfield Centre Parkway, Atlanta, GA 30354;

(3) Chicago, IL: Crowne Plaza Chicago O'Hare Hotel & Conference Center, 5440 North River Road, Rosemont, IL 60018;

(4) Burbank, CA: Burbank Airport Marriott Hotel & Convention Center, 2500 North Hollywood Way, Burbank, CA 91505; and

(5) Houston, TX: Conference Center, Hilton Houston Hotel—North Greenspoint, 12400 Greenspoint Drive, Houston, TX 77060.

Participants should check in with TSA staff when they arrive at the public meeting.

All interested persons may submit comments, identified by the TSA docket number to this document, to the Federal Docket Management System (FDMS), a government-wide, electronic docket management system, using any one of the following methods:

Electronically: You may submit comments through the Federal eRulemaking portal at http://www.regulations.gov. Follow the online instructions for submitting comments.

Mail, In Person, or Fax: Address, hand-deliver, or fax your written comments to the Docket Management Facility, U.S. Department of Transportation, 1200 New Jersey Avenue, SE., West Building Ground Floor, Room W12-140, Washington, DC 20590-0001; Fax (202) 493-2251. The Department of Transportation (DOT), which maintains and processes TSA's official regulatory dockets, will scan the submission and post it to FDMS.

See SUPPLEMENTARY INFORMATION for format and other information about comment submissions.

FOR FURTHER INFORMATION CONTACT: Erik Jensen, Assistant General Manager, Policy and Plans, Office of General Aviation, TSNM, TSA-28, Transportation Security Administration, 601 South 12th Street, Arlington, VA 02598-6028; telephone (571) 227-2401; facsimile (571) 227-2918; e-mail LASP@dhs.gov.

SUPPLEMENTARY INFORMATION:

Comments Invited

TSA invites interested persons to participate in this public meeting by submitting written comments, data, or views. We invite comments relating to any aspect of the LASP NPRM. The areas in particular in which TSA seeks information and comment at the public meeting are listed below in the “Specific Issues for Discussion” section. We also invite comments relating to the economic, environmental, energy, or federalism impacts that might result from this action. See ADDRESSES above for information on where to submit comments.

With each comment, please identify the docket number at the beginning of your comments. TSA encourages commenters to provide their names and addresses. The most helpful comments reference a specific portion of the document, explain the reason for any recommended change, and include supporting data. You may submit comments and material electronically, in person, by mail, or fax as provided under ADDRESSES, but please submit your comments and material by only one means. If you submit comments by mail or delivery, submit them in an unbound format, no larger than 8.5 by 11 inches, suitable for copying and electronic filing.

If you would like TSA to acknowledge receipt of comments submitted by mail, include with your comments a self-addressed, stamped postcard on which the docket number appears. We will stamp the date on the postcard and mail it to you.

TSA will file in the public docket all comments received by TSA, except for comments containing confidential information and sensitive security information (SSI).¹ TSA will consider all comments received on or before the closing date for comments and will consider comments filed late to the extent practicable. The docket is available for public inspection before and after the comment closing date.

¹ “Sensitive Security Information” or “SSI” is information obtained or developed in the conduct of security activities, the disclosure of which would constitute an unwarranted invasion of privacy, reveal trade secrets or privileged or confidential information, or be detrimental to the security of transportation. The protection of SSI is governed by 49 CFR part 1520.

Handling of Confidential or Proprietary Information and Sensitive Security Information (SSI) Submitted in Public Comments

Do not submit comments that include trade secrets, confidential commercial or financial information, or SSI to the public regulatory docket. Please submit such comments separately from other comments on the action. Comments containing this type of information should be appropriately marked as containing such information and submitted by mail to the address listed in FOR FURTHER INFORMATION CONTACT section.

Upon receipt of such comments, TSA will not place the comments in the public docket and will handle them in accordance with applicable safeguards and restrictions on access. TSA will hold documents containing SSI, confidential business information, or trade secrets in a separate file to which the public does not have access, and place a note in the public docket that TSA has received such materials from the commenter. If TSA determines, however, that portions of these comments may be made publicly available, TSA may include a redacted version of the comment in the public docket. If TSA receives a request to examine or copy information that is not in the public docket, TSA will treat it as any other request under the Freedom of Information Act (FOIA) (5 U.S.C. 552) and the Department of Homeland Security's (DHS') FOIA regulation found in 6 CFR part 5.

Reviewing Comments in the Docket

Please be aware that anyone is able to search the electronic form of all comments received into any of our dockets by the name of the individual who submitted the comment (or signed the comment, if submitted on behalf of an association, business, labor union, etc.). You may review the applicable Privacy Act Statement published in the Federal Register on April 11, 2000 (65 FR 19477), or you may visit http://DocketInfo.dot.gov.

You may review TSA's electronic public docket on the Internet at http://www.regulations.gov. In addition, DOT's Docket Management Facility provides a physical facility, staff, equipment, and assistance to the public. To obtain assistance or to review comments in TSA's public docket, you may visit this facility between 9 a.m. to 5 p.m., Monday through Friday, excluding legal holidays, or call (202) 366-9826. This docket operations facility is located in the West Building Ground Floor, Room W12-140 at 1200 New Jersey Avenue, SE., Washington, DC 20590.

Availability of Rulemaking Document

You can get an electronic copy using the Internet by—

(1) Searching the electronic Federal Docket Management System (FDMS) Web page at http://www.regulations.gov;

(2) Accessing the Government Printing Office's Web page at http://www.gpoaccess.gov/fr/index.html; or

(3) Visiting TSA's Security Regulations Web page at http://www.tsa.gov and accessing the link for “Research Center” at the top of the page.

In addition, copies are available by writing or calling the individual in the FOR FURTHER INFORMATION CONTACT section. Make sure to identify the docket number of this rulemaking.

Background

On October 30, 2008, TSA published in the Federal Register (73 FR 64790) the Notice of Proposed Rulemaking for the Large Aircraft Security Program, Other Aircraft Operator Security Program, and Airport Operator Security Program. The LASP NPRM describes TSA's proposal to enhance the security of general aviation by expanding the scope of current requirements and by adding new requirements for certain U.S. operators with aircraft exceeding 12,500 pounds maximum take-off weight (MTOW) (large aircraft) and certain airports serving those aircraft. These measures are based on the current security program that applies to operators providing scheduled or charter services. Proposed measures include requiring the adoption of a security program, checking passengers against government terrorist watch lists, conducting criminal history checks on pilots, designating a security coordinator, and submission to an audit by an independent third party every two years. The LASP NPRM also proposes further security measures for all-cargo aircraft and for private charter operations with aircraft weighing over 45,500 kilograms (100,309.3 pounds) and would require certain airports that serve large aircraft to adopt a security program. TSA seeks comment on the proposal described in the LASP NPRM. TSA intends to analyze the public comments and issue a final rule.

Specific Issues for Discussion

There are several areas in particular in which TSA seeks information and comment from the industry at the public meeting, listed below. These key issues are intended to help focus public comments on subjects that TSA must explore in order to complete its review of the Large Aircraft Security Program (LASP). The comments at the meeting need not be limited to these issues, and TSA invites comments on any other aspect of the LASP NPRM. These are:

(1) The weight threshold of aircraft covered by the proposed rule.

(2) The phased approach in the implementation of the proposed rule and the determination of which phase would be applicable to each large aircraft operator.

(3) The security threat assessment (STA) requirements, including the transferability of the STAs for flight crew members and whether a proprietor, general partner, officer, director, or owner of aircraft operators should undergo a STA.

(4) Methods for positively identifying pilots and effectively linking them to the aircraft they are operating.

(5) The watchlist service provider (WLSP) requirement, including comments on the WLSP's system security plan, the role that watchlist service providers may continue to have if the responsibility for watchlist matching shifts to the U.S. Government in the future, whether there should be a limitation of the number of entities that would be approved as a WSLP, and whether WLSP covered personnel should be limited only to U.S. citizens, nationals or lawful permanent residents.

(6) Whether TSA should establish a minimum time for submission of passenger information to the service providers, what that minimum time should be, and the reasons supporting the suggested minimum time.

(7) Whether full program aircraft operators should be permitted to conduct their own audit and/or watchlist matching on flights operated under their LASP.

(8) Proposed privacy notice requirement.

(9) The third-party auditor requirement, including the establishment of a system of assigning auditors and methods of doing so, qualifications of auditors, and conflict of interests and independence issues affecting an auditor.

(10) Whether certain large aircraft operators (for instance, operators that are not carrying persons or property for compensation or hire or with aircraft having a MTOW of more than 45,500 kg) should have a different requirement as to what weapons are prohibited (for example, limit the prohibited items to only guns and firearms).

(11) The requirement for security coordinator, including the use of a single individual for multiple security coordinator roles.

(12) Whether any other types of airport should be covered by a security program.

(13) Amendment of the partial program or the supporting program for airports.

(14) Applicability of the proposed rule to fractional ownership operations.

(15) Qualifications of individuals who would be exempted from liability under the voluntary provision of emergency services.

(16) The burden estimates, estimated costs of compliance, estimates regarding the small entities affected, and economic impact on the newly-regulated entities.

Participation at the Meeting

The meeting is expected to begin at 9 a.m. Following an introduction by TSA, members of the public will be invited to present their views.

Anyone wishing to present an oral statement at the meeting must register in person between 8 and 9 a.m. on the day of the meeting, and provide his or her name and affiliation. Speakers should keep comments brief and plan to speak for no more than three minutes when presenting comments.

Public Meeting Procedures

TSA will use the following procedures to facilitate the meeting:

(1) There will be no admission fee or other charge to attend or to participate in the meeting. The meeting will be open to all persons who are scheduled to present statements or who register in person between 8 and 9 a.m. on the day of the meeting at the site of the public meeting. TSA will make every effort to accommodate all persons who wish to participate, but admission will be subject to availability of space in the meeting room. The meeting may adjourn early if scheduled speakers complete their statements or questions in less time than is scheduled for the meeting.

(2) An individual, whether speaking in a personal or a representative capacity on behalf of an organization, will be limited to a three-minute statement and scheduled on a first-come, first-served basis. If a large number of persons register to present comments, this amount of time may be shortened to provide all registered persons an opportunity to present their comments.

(3) Any speaker prevented by time constraints from speaking will be encouraged to submit written remarks, which will be made part of the record.

(4) For information on facilities or services for individuals with disabilities or to request assistance at the meeting, please contact the person listed in the FOR FURTHER INFORMATION CONTACT section above before December 31, 2008.

(5) Representatives of TSA will preside over the meeting.

(6) The meeting will be recorded by a court reporter. A transcript of the meeting and any material accepted by the panel during the meeting will be included in the public docket.

(7) Statements made by TSA representatives are intended to facilitate discussion of the issues or to clarify issues. Any statement made during the meeting by a TSA representative is not intended to be, and should not be construed as, a position of TSA.

(8) The meeting is designed to invite public views and gather additional information. No individual will be subject to cross-examination by any other participant; however, TSA representatives may ask questions to clarify a statement.

Issued in Arlington, Virginia, on December 12, 2008.
John Sammon,
Assistant Administrator for Transportation Sector Network Management.

[FR Doc. E8-30045 Filed 12-17-08; 8:45 am]

BILLING CODE 9110-05-P